DEPARTMENT OF THE INTERIOR

Fish and Wildlife Service

Change in Administrative Jurisdiction of Midway Atoll National Wildlife Refuge

AGENCY: Fish and Wildlife Service, Interior.

ACTION: Notice.

SUMMARY: This notice clarifies that jurisdiction and control of submerged lands and marine waters at and surrounding Midway Atoll, located in the Pacific Ocean, are the responsibility of the U.S. Fish and Wildlife Service based on an agreement with the Department of the Interior Office of Insular Affairs.

FOR FURTHER INFORMATION CONTACT: A. Eric Alvarez, Chief, Division of Realty, U.S. Fish and Wildlife Service, Telephone (703) 358-1713.

SUPPLEMENTARY INFORMATION: This gives public notice of the transfer of jurisdiction and control of marine waters at and surrounding Midway Atoll from the Department of the Interior Office of Insular Affairs to the U.S. Fish and Wildlife Service. A Memorandum of Understanding (MOU) between the Director of the U.S. Fish and Wildlife Service and the Deputy Assistant Secretary of Insular Affairs (both within the Department of the Interior) transferred the management of submerged lands and waters associated with Midway Atoll to the Fish and Wildlife Service on March 26, 2003. Upon execution of the MOU, the U.S. Fish and Wildlife Service assumed jurisdiction and control of the submerged lands and waters within the 12-nautical mile territorial sea in order to manage the natural resources (i.e., fish, wildlife, plants, and other associated resources) associated with this area as part of the Midway Atoll National Wildlife Refuge.

The Service will continue to administer and manage this area under the National Wildlife Refuge System Administration Act of 1966 (16 U.S.C. 668dd-668ee, as amended); the general regulations governing the National Wildlife Refuge System published in Title 50, Subchapter C, Code of Federal Regulations; and in accordance with all applicable laws, policies, and rules.

The refuge consists of all of the islands and submerged lands of Midway Atoll together with the surrounding territorial sea, which currently extends outward to 12 nautical miles. Executive Order 13022 transferred the authority over the Midway Islands from the Department of the Navy to the Department of the Interior on October 31, 1996. The MOU clarifies that the authority over submerged lands and waters of Midway Atoll has been delegated to the Director of the U.S. Fish and Wildlife Service by the Secretary of the Interior through the Office of Insular Affairs. We took this action in furtherance of United States sovereignty over Midway Atoll and to protect the unique ecosystem of Midway Atoll, including the adjacent coral reefs and marine waters.

The Service, which has been managing the refuge pursuant to the Executive order, will continue to manage it under all applicable laws, policies, and regulations that govern the National Wildlife Refuge System. In carrying out those responsibilities, and consistent with those authorities, we shall ensure that the service will manage the unique ecosystem of the refuge to preserve its character in support of the protection and conservation of the fish and wildlife in the refuge.

Dated: December 8, 2003.
Matt Hogan,
Acting Director, U.S. Fish and Wildlife Service.

[FR Doc. 04-536 Filed 1-9-04; 8:45 am]

BILLING CODE 4310-55-P